DEPARTMENT OF TRANSPORTATION

Saint Lawrence Seaway Development Corporation

33 CFR Part 401

[Docket No. SLSDC 2007-0005]

RIN 2135-AA27

Seaway Regulations and Rules: Periodic Update, Various Categories

AGENCY: Saint Lawrence Seaway Development Corporation, DOT.

ACTION: Final rule.

SUMMARY: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Regulations and Rules in various categories. The changes will update the following sections of the Regulations and Rules: Condition of Vessels; Seaway Navigation; and, Information and Reports. The SLSDC is seeking to harmonize the ballast water requirements for vessels transiting the U.S. waters of the Seaway after having operated outside the exclusive economic zone (EEZ) with those currently required by Canadian authorities for transit in waters under Canadian jurisdiction of the Seaway. These amendments are necessary to take account of updated procedures and will eliminate the confusion regarding the requirements for saltwater flushing in the binational waters of the Seaway System.

DATES: The final rule will be effective March 26, 2008.

FOR FURTHER INFORMATION CONTACT: Carrie Bedwell Mann, Chief Counsel, Saint Lawrence Seaway Development Corporation, 1200 New Jersey Avenue, SE., Washington, DC 20590, (202) 366-0091.

SUPPLEMENTARY INFORMATION: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Regulations and Rules in various categories. The changes will update the following sections of the Regulations and Rules: Condition of Vessels; Seaway Navigation; and, Information and Reports. The SLSDC is seeking to harmonize the ballast water requirements for vessels transiting the U.S. waters of the Seaway after having operated outside the exclusive economic zone (EEZ) with those currently required by Canadian authorities for transit in waters under Canadian jurisdiction of the Seaway. These updates are necessary to take account of updated procedures which will enhance the safety of transits through the Seaway and eliminate the confusion regarding the requirements for saltwater flushing of ballast tanks containing only residual amounts of water and/or sediment in the binational waters of the Seaway. Several of the amendments are merely editorial or clarification of existing requirements. Where new requirements or regulations are being made, an explanation for such a change is provided below.

Regulatory Notices: Privacy Act: Anyone is able to search the electronic form of all comments received into any of our dockets by the name of the individual submitting the comment (or signing the comment, if submitted on behalf of an association, business, labor union, etc.). You may review the U.S. Department of Transportation's complete Privacy Act Statement in the Federal Register published on April 11, 2000 (Volume 65, Number 70; Pages 19477-19478) or you may visit http://www.Regulations.gov.

Discussion of Comments

From the Notice of Proposed Rulemaking, 72 FR 74247, we received 15 letters or other forms of correspondence on the proposed regulation requiring saltwater flushing of ballast water tanks that contain residual amounts of water and/or sediment. Comments were received from: Congressman Vernon J. Ehlers, Minnesota Pollution Control Agency, Great Lakes Commission, Wisconsin Department of Natural Resources, Shipping Federation of Canada, McCabe Chapter of IWLA, National Oceanic and Atmospheric Administration, National Environmental Coalition on Invasive Species, Great Lakes United/Save The River/Alliance for the Great Lakes, Natural Resources Defense Council, the Polish Steamship Company, Ontario Ministry of Natural Resources, and 3 private citizens: Bruce Lindgren, Claire Duquette, and Dick Schwab. Most letters contained more than one comment on this issue. These included general comments as well as specific comments. We address the general comments first and then the specific comments. We did not receive any comments on the remaining proposed revisions to the joint Seaway regulations.

General Comments

All 15 comments supported the proposed regulations. Eleven (11) of the commenters: Congressman Ehlers, McCabe Chapter of the IWLA, the Wisconsin Department of Natural Resources, Great Lakes Commission, National Oceanic and Atmospheric Administration, National Environmental Coalition on Invasive Species, Great Lakes United, National Wildlife Federation, National Resources Defense Council, Mr. Schwab and Mr. Lindgren, stated that while the regulation is an important step in the right direction, more needs to be done to reduce invasions of aquatic nuisance species (ANS).

The SLSDC agrees with these comments and wants to emphasize that this regulation is intended to be an interim solution while the U.S. Coast Guard, the lead Federal agency charged with regulating ballast water discharges, completes its ballast water discharge standard rulemaking and the U.S. Congress continues work on National legislation to address this important issue. We will continue to work with the U.S. Coast Guard and our Canadian counterparts on efforts to combat the introduction of aquatic nuisance species. We will share the comments received in this docket with the U.S. Coast Guard to aid in their efforts to develop a discharge standard.

Seven (7) commenters: McCabe Chapter of the IWLA, Congressman Ehlers, Shipping Federation of Canada, Minnesota Pollution Control Agency, National Environmental Coalition on Invasive Species, Great Lakes United, National Wildlife Federation, acknowledge and support the need to harmonize the U.S. regulations with the Canadian regulations requiring saltwater flushing for vessels transiting the Seaway. The Polish Steamship Company acknowledged that this regulation will not result in any economic hardship to the company since its vessels are already required to conduct saltwater flushing 200 miles out at sea.

We agree that harmonization of the saltwater flushing requirements for vessels transiting the binational waters of the Seaway system after having operated outside the EEZ will provide consistency between the U.S. and Canadian requirements for those vessels regardless of their port of destination. There has been a joint inspection program for both safety and environmental issues conducted in Montreal, Quebec for quite some time; however, this regulation will now provide inspectors with consistent requirements by both countries. Inspection personnel from all agencies will be inspecting vessels utilizing the same criteria.

Specific Comments

A majority of the commenters suggest making changes to the scope of the regulation. Six (6) commenters: Great Lakes Commission, Minnesota Pollution Control Agency, National Environmental Coalition on Invasive Species, Great Lakes United, National Resources Defense Council, Ontario Ministry of Natural Resources, propose that the requirements should apply to Canadian and U.S. flagged vessels that operate outside the EEZ. One commenter, Great Lakes United, further proposed harmonizing the proposed rule with the Canadian rules that state the regulations apply to every ship in waters under Canadian jurisdiction. Great Lakes United would like the regulation clarified to state that if vessels are not covered by the U.S. Coast Guard regulations, the Seaway regulations would apply. They believe that this creates a loophole and not all oceangoing vessels will be required to conduct saltwater flushing.

The intent of the U.S. regulation is to make consistent the requirements for vessels operating in the Seaway. The Canadian regulations require that Canadian vessels operating outside the EEZ conduct saltwater flushing. Additionally, the Canadian regulations apply to U.S. flagged vessels after operating outside the EEZ as well. We agree with the commenters and have modified the language of the rule to include U.S. and Canadian flagged vessels that have operated outside the EEZ in order to harmonize the rules with the Canadian requirements already in effect in the Canadian waters of the Seaway. Thus, all oceangoing vessels will be required to conduct saltwater flushing of ballast water tanks containing residual amounts of ballast water and/or sediment prior to entering the Seaway. The vessels are inspected at Montreal by the relevant agencies with jurisdiction over vessels en route to the Great Lakes, the two Seaway Corporations, U.S. Coast Guard, and Transport Canada, to ensure compliance with all ballast water requirements.

One commenter, Minnesota Pollution Control Agency, recommends modifying 401.30(f)(1) to include vessels with no pumpable ballast on board. The commenter suggested that the proposed language was not clear whether the saltwater flushing requirement would apply to vessels declaring “No Ballast Onboard” (NOBOB).

The joint regulation pertains to tanks containing residual amounts of water and/or sediment regardless of whether the vessel is a “Ballast on Board” (BOB) or NOBOB vessel. Again, it is important to note that the U.S. Coast Guard is the lead agency for regulating ballast water discharges and is working on a ballast water discharge standard that would apply to all ballast water discharges regardless of whether the discharge is from a full tank or one containing only residual amounts of water and/ or sediment.

Six commenters: Great Lakes Commission, Minnesota Pollution Control Agency, National Environmental Coalition on Invasive Species, Great Lakes United, National Wildlife Federation and the Ontario Ministry of Natural Resources, also suggested that the requirements should apply to all vessels including those operating exclusively within the U.S. and/or Canadian exclusive economic zone.

The rule is intended to be consistent with the Canadian requirements already in force for the Canadian waters of the Seaway. The Canadian requirements for saltwater flushing do not apply to vessels operating exclusively inside the Canadian EEZ. We will share these comments with Transport Canada and the U.S. Coast Guard.

Several commenters suggested strengthening the saltwater flushing requirements. One commenter, Great Lakes United, also proposes changing the word “should” in the definition of saltwater flushing to “shall” in two places. The commenter states that “given the limitation for safety, there is no reason not to require as much water as is safe rather than recommend it”. Additionally, they suggest that there is no reason not to require taking care to eliminate fresh or brackish water.

The SLSDC agrees with this comment and has revised the proposed language in 401(f)(1) to reflect this suggestion.

One commenter, National Wildlife Federation, suggested adding more detail to the requirements for saltwater flushing such as:

• maximizing physical expulsion as well as salinity shock;

• specifying how quickly salinity of at least 30 parts per thousand (ppt) must be attained and how long residual organisms are exposed to salinity levels;

• clarifying that the salinity requirement applies to residual water that is already highly saline; and

• requiring saltwater flushing occur where the water depth is at least 2,000 meters.

The SLSDC appreciates receiving these suggestions that would strengthen the requirements for saltwater flushing; however, these requirements are not consistent with harmonizing the U.S. regulations with the Canadian regulations for vessels operating in the Seaway. We agree that effective ballast water management practices are necessary and will share these comments with the U.S. Coast Guard and Transport Canada.

One commenter, National Wildlife Federation, suggests that the salinity requirement should apply to sediment as well as resultant residual water.

This is in the definition of saltwater flushing taken from the Canadian and U.S. Coast Guard Best Management Practices.

Several comments centered on recordkeeping and compliance requirements. One commenter, Congressman Ehlers, urges vigorous enforcement of the new requirements through extensive monitoring and severe fines and penalties for violators. Three commenters: Minnesota Pollution Control Agency, Great Lakes United and the National Wildlife Federation, urge the SLSDC to strengthen the recordkeeping and reporting requirements related to achieving the required salinity in each tank to a minimum of 30 parts per thousand. The Minnesota Pollution Control Agency requests that the regulation be modified to explicitly require the measurements of salinity and records of the measurement time, date and geographic location of the vessel when the measurement was taken. One commenter, Great Lakes United, wants public access to information general from the reporting and enforcement.

The agencies with jurisdiction over vessels en route to the Great Lakes basin: the two Seaway Corporations, the U.S. Coast Guard and Transport Canada will be inspecting the vessels entering the Seaway for compliance with ballast water management requirements. The inspectors will verify the accuracy of the information on the ballast water management report forms. The reporting form (and instructions) for ballast water management required to be completed prior to entering the Seaway will be available on the Seaway binational Web site at http://www.greatlakes-seaway.com prior to the opening of the 2008 navigation season. At the end of each navigation season, the agencies will publish a ballast water inspection report summary which will be made available to the public on the binational Web site.

One commenter, Great Lakes United, proposes revising § 401.30(g) by changing “taken aboard” to “while” to ensure that noncompliant ballast water will not be released in the St. Lawrence River or Great Lakes even if no additional water is taken on.

One (1) commenter, Shipping Federation of Canada, proposed revising the language in 401.30(f) to make it clear that the ballast water should be retained only in a tank that is found to be noncompliant as opposed to requiring the entire ship to retain all ballast water in all tanks, even compliant tanks.

The SLSDC agrees with this proposal and has modified the regulation to clarify that only a tank that is found noncompliant will be required to retain any ballast water while in the Seaway. In addition, the SLSDC revised the regulation based on the Great Lakes United suggestion to make clear that the water from the noncompliant tank is not to be discharged while the vessel is in the Seaway.

Several commenters noted a typographical error in 401.30(f)(1) regarding the definition of saltwater flushing. The proposed rule refers to mixing “freshwater” with ballast water, when it should say either “saltwater” or flush water”.

The final rule has been corrected to state flushwater in order to be consistent with the Canadian definition.

Discussion of Final Rule

In addition to the changes to the ballast water management requirements, the SLSDC is making changes to other sections of the joint regulations. The SLSDC is making one amendment to the Condition of Vessels section of the joint Seaway regulations. In § 401.12, “Minimum requirements—mooring lines and fairleads”, the language is modified to provide vessels the option of using mooring lines that are either wire or synthetic based upon the length of the vessel. Since mooring lines can be wire or synthetic some smaller vessels have presented themselves for transit with a mix of mooring wires/and or synthetic lines. Synthetic lines or hawsers are sufficient to moor the smaller vessels and mooring wire is more than capable of mooring the smaller vessels, therefore the use of either wire or synthetic lines will be acceptable.

Several amendments to the joint regulations pertaining to Seaway Navigation are being made. In § 401.34, “Vessels in tow”, the SLSDC is adding a provision that would require every vessel in tow be inspected prior to every transit. The SLSDC is making this amendment to ensure navigation safety through inspection of all vessels even when a vessel is in tow. Currently such vessels are being inspected; however, this change will make it a mandatory requirement.

As discussed above, the SLSDC is amending the joint regulations in § 401.30, “Ballast water and trim”. The amendment seeks to harmonize the requirements for saltwater flushing of ballast water tanks containing residual amounts of ballast water and/or sediment with the requirements already in place for vessels transiting Canadian waters of the Seaway System. Vessels transiting the Seaway traverse Canadian and U.S. waters multiple times en route to ports in the Great Lakes St. Lawrence Seaway System. The amendments would make the requirements for oceangoing vessels to conduct saltwater flushing of each ballast water tank that contains residual amounts of ballast water and/or sediment the same whether the vessel is transiting U.S. or Canadian waters of the Seaway after having operated outside the EEZ. The requirement for saltwater flushing of ballast tanks is intended to mirror the regulations already in effect in waters under Canadian jurisdiction for vessels transiting the Seaway.

Specifically, the SLSDC, in agreement with the SLSMC, is amending the Seaway Regulations and Rules by adding new subsections (f) and (g) to § 401.30, “Ballast water and trim.” These new subsections will require that, as a condition of transiting the Seaway, every vessel must conduct a saltwater flushing of its ballast tanks that contain residual amounts of ballast water in an area 200 nautical miles from any shore before entering waters under Canadian jurisdiction. Saltwater flushing is defined as the addition of midocean water to ballast water tanks: the mixing of the flushwater with residual water and sediment through the motion of the vessel; and the discharge of the mixed water. The resultant residual water remaining in the tank must have a salinity level of at least 30 parts per thousand (ppt). Further, each vessel must maintain the ability to measure salinity levels in each tank onboard the vessel so that final salinities of at least 30 parts per thousand can be ensured. Any vessel that has tanks that fail to reach this salinity level will be required to retain any water in those tanks until it exits the Seaway.

In addition, the SLSDC and SLSMC will continue to require that as a mandatory prerequisite for clearance of a vessel for transit of the Seaway System after operating beyond the EEZ, the vessel must agree to comply with the “Code of Best Practices for Ballast Water Management” of the Shipping Federation of Canada dated September 28, 2000.

In light of the amount of interest and activity regarding control of aquatic nuisance species (ANS) at all levels of government, especially in the U.S. Congress and the U.S. Coast Guard, the joint regulations will be reviewed and revised once either National legislation and/or regulations are issued that would pertain directly to this issue. In the meantime, this measure is intended to be an interim solution.

In § 401.40, “Entering, exiting, or position in lock”, the SLSDC will prohibit a vessel, when it is being cast off in a lock, from departing in a manner that the stern passes the stop symbol on the local wall nearest the closed gates. Occasionally vessels drift backward in the lock while the mooring lines are being released; preventing the vessel's stern from passing the stop symbol will protect the vessel and the lock gates from possible damage.

Other changes made to the joint regulations, including one to the regulations pertaining to Information and Reports, are merely editorial or for clarification purposes.

Regulatory Evaluation

This regulation is significant because of significant public interest in measures that address aquatic nuisance species and has been reviewed by the Office of Management and Budget.

Regulatory Flexibility Act Determination

I certify this regulation will not have a significant economic impact on a substantial number of small entities. The Saint Lawrence Seaway Regulations and Rules primarily relate to commercial users of the Seaway, the vast majority of whom are foreign vessel operators. Therefore, any resulting costs will be borne mostly by foreign vessels.

Environmental Impact

This regulation does not require an environmental impact statement under the National Environmental Policy Act (49 U.S.C. 4321, et reg.) because it is not a major federal action significantly affecting the quality of the human environment. The environmental considerations applicable to the basic substance of this regulation are essentially discussed in the U.S. Coast Guard's Environmental Assessment for its May 17, 1999, “Implementation of the National Invasive Species Act of 1996” rulemaking (64 FR 26672) and the U.S. Coast Guard's Environmental Assessment for its August 31, 2005, “Ballast Water Management for Vessels Entering the Great Lakes That Declare No Ballast Onboard” (71 FR 4605).

Federalism

The Corporation has analyzed this rule under the principles and criteria in Executive Order 13132, dated August 4, 1999, and has determined that this proposal does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Saint Lawrence Seaway Development Corporation is amending 33 CFR part 401, Regulations and Rules, as follows:

PART 401—SEAWAY REGULATIONS AND RULES

Subpart A—Regulations

1. The authority citation for subpart A of part 401 continues to read as follows:

Authority: 33 U.S.C. 983(a) and 984(a) (4), as amended; 49 CFR 1.52, unless otherwise noted.

2. In § 401.12 paragraphs (a)(1) introductory text; (a)(1)(i), (a)(2) introductory text, (a)(3) introductory text, and (a)(4) introductory text are revised to read as follows:

§ 401.12 Minimum requirements—mooring lines and fairleads.

(a) * * * * *

(1) Vessels of 80 m or less in overall length shall have at least three mooring lines—wires or synthetic hawsers, two of which shall be independently power operated and one of which shall be hand held:

(i) One line shall lead forward from the break of the bow and one line shall lead astern from the quarter and be independently power operated by winches, capstans or windlasses and lead through closed chocks or fairleads acceptable to the Manager and the Corporation; and

* * * * *

(2) Vessels of more than 80 m but not more than 100 m in overall length shall have four mooring lines—wires or synthetic hawsers, of which three shall be independently power operated by winches, capstans or windlasses and one being hand held. All lines shall be led through closed chocks or fairleads acceptable to the Manager and the Corporation, of which three mooring lines:

* * * * *

(3) Vessels of more than 100 m but not more than 120 m in overall length shall have four mooring lines—wires or synthetic hawsers independently power operated by winches, capstan or windlasses as follows:

* * * * *

(4) Vessels of more than 120 m in overall length shall have four mooring lines—wires, two of which shall lead from the break of the bow and two of which shall lead from the quarter, and;

* * * * *

3. Section 401.27 is revised to read as follows:

§ 401.27 Compliance with instructions.

Every vessel shall comply promptly with transit instructions given by the traffic controller or any other officer.

4. In § 401.29 paragraph (a) is revised to read as follows:

§ 401.29 Maximum draft.

(a) The draft and speed of a vessel in transit shall be controlled by the master, who shall take into account the vessel's individual characteristics and its tendency to list or squat, so as to avoid striking bottom.¹

¹ The main channels between the Port of Montreal and Lake Erie have a controlling depth of 8.23m.

* * * * *

5. Section 401.30 is amended by adding new paragraphs (f), (g) and (h) to read as follows:

§ 401.30 Ballast water and trim.

* * * * *

(f) As a condition of transit of the Seaway after having operated outside the exclusive economic zone (EEZ) every vessel that carries only residual amounts of ballast water and/or sediment that were taken onboard the vessel outside the EEZ shall:

(1) Conduct a saltwater flushing of their ballast water tanks that contain the residual amounts of ballast water and/or sediment in an area 200 nautical miles from any shore before entering waters of the Seaway. Saltwater flushing is defined as the addition of mid-ocean water to ballast water tanks: The mixing of the flushwater with residual water and sediment through the motion of the vessel; and the discharge of the mixed water, such that the resultant residual water remaining in the tank has as high salinity as possible, and is at least 30 parts per thousand (ppt). The vessel shall take on as much mid-ocean water into each tank as is safe (for the vessel and crew) in order to conduct saltwater flushing. And adequate flushing may require more than one fill-mix-empty sequence, particularly if only small amounts of water can be safely taken onboard at one time. The master of the vessel is responsible for ensuring the safety of the vessel, crew, and passengers. Vessels reporting only residual ballast water onboard shall take particular care to conduct saltwater flushing on the transit to the Great Lakes so as to eliminate fresh and or brackish water residuals in ballast tanks; and

(2) Maintain the ability to measure salinity levels in each tank onboard the vessel so that final salinities of at least 30 ppt can be ensured.

(g) Every tank that is found not in compliance with 401.30(f) shall retain any ballast water until it exits the Seaway.

(h) These requirements do not apply to vessels of the armed forces, as defined in the Federal Water Pollution Control Act, or that are owned or operated by a state and used in government noncommercial service.

6. In § 401.31 paragraph (c) introductory text is revised to read as follows:

§ 401.31 Meeting and passing.

* * * * *

(c) Except as instructed by the traffic controller, no vessel shall overtake and pass or attempt to overtake and pass another vessel—

* * * * *

7. Section 401. 34 is revised to read as follows:

§ 401.34 Vessels in tow.

No vessel that is not self-propelled (including but not limited to tug/tows and/or deadship/tows) shall be underway in any Seaway waters unless it is securely tied to an adequate tug or tugs, in accordance with special instructions given by the Manager or the Corporation pursuant to § 401.33. Every vessel in tow has to be inspected prior to every transit unless it has a valid Seaway Inspection Certificate. The owner/master shall give a 24-hour notice of arrival when an inspection is requested.

8. Section 401.36 is revised to read as follows:

§ 401.36 Order of passing through.

Vessels shall advance to a lock in the order instructed by the traffic controller.

9. In § 401.37, paragraph (a) is revised to read as follows:

§ 401.37 Mooring at tie-up walls.

(a) Upon arrival at a lock, a vessel awaiting instructions to advance shall moor at the tie-up wall, close up to the designated limit or approach sign or to the ship preceding it, whichever is specified by the traffic controller or an officer.

* * * * *

10. In § 401.40, paragraph (b) is revised to read as follows:

§ 401.40 Entering, exiting or position in lock.

* * * * *

(b) On being cast off in a lock, no vessel shall be allowed to fall back in such a manner that the stern passes the stop symbol on the lock wall nearest the closed gates.

* * * * *

11. In § 401.48, paragraph (a) is revised to read as follows:

§ 401.48 Turning basins.

* * * * *

(a) With permission from the traffic controller; and

* * * * *

12. Section 401.49 is revised to read as follows:

§ 401.49 Dropping anchor or tying to canal bank.

Except in an emergency, no vessel shall drop anchor in any canal or tie-up to any canal bank unless authorized to do so by the traffic controller.

13. In § 401.50, the introductory text is revised to read as follows:

§ 401.50 Anchorage areas.

Except in an emergency, or unless authorized to do so by the traffic controller, no vessel shall drop anchor in any part of the Seaway except in the following designated anchorage areas:

* * * * *

14. In § 401.51, paragraph (a) is revised to read as follows:

§ 401.51 Signaling approach to a bridge.

(a) Unless a vessel's approach has been recognized by a flashing signal, the master shall signal the vessel's presence to the bridge operator by VHF radio when it comes abreast of any of the bridge whistle signs.

* * * * *

15. In § 401.58, paragraph (a) is revised to read as follows:

§ 401.58 Pleasure craft scheduling.

(a) The transit of pleasure craft shall be scheduled by the traffic controller or the officer in charge of a lock and may be delayed so as to avoid interference with other vessels; and

* * * * *

16. Section 401.83 is revised to read as follows:

§ 401.83 Reporting position at anchor, wharf, etc.

A vessel anchoring in a designated anchorage area, or elsewhere, and a vessel mooring at a wharf or dock, tying-up to a canal bank or being held on a canal bank in any manner shall immediately report its position to the traffic controller and it shall not resume its voyage without the traffic controller's permission.

Issued at Washington, DC on February 15, 2008.
Saint Lawrence Seaway Development Corporation.
Collister Johnson, Jr.,
Administrator.

[FR Doc. E8-3323 Filed 2-22-08; 8:45 am]

BILLING CODE 4910-61-P